DEPARTMENT OF COMMERCE

Foreign-Trade Zones Board

[B-34-2018]

Foreign-Trade Zone (FTZ) 230—Greensboro, North Carolina; Notification of Proposed Production Activity; Patheon Softgels (Pharmaceutical Products); High Point, North Carolina

The Piedmont Triad Partnership, grantee of FTZ 230, submitted a notification of proposed production activity to the FTZ Board on behalf of Patheon Softgels (Patheon), located in High Point, North Carolina. The notification conforming to the requirements of the regulations of the FTZ Board (15 CFR 400.22) was received on May 31, 2018.

Patheon already has authority to produce certain prescription pharmaceutical products and soft gelatin capsules within Subzone 230C. Pursuant to 15 CFR 400.14(b), additional FTZ authority would be limited to the specific foreign-status materials/components and specific finished products described in the submitted notification (as described below) and subsequently authorized by the FTZ Board.

Production under FTZ procedures could exempt Patheon from customs duty payments on the foreign-status materials/components used in export production. On its domestic sales, for the foreign-status materials/components noted below and in the existing scope of authority, Patheon would be able to choose the duty rates during customs entry procedures that apply to: Gelatin encapsulated ibuprofen capsules (duty-free). Patheon would be able to avoid duty on foreign-status components which become scrap/waste. Customs duties also could possibly be deferred or reduced on foreign-status production equipment.

The materials/components sourced from abroad include: Ponceau R4 (food coloring—for use only in production for export); ibuprofen active pharmaceutical ingredients; medium chain triglycerides; and, polyethylene glycol (duty rate ranges from 8.8ct/kg to 6.5%).

Public comment is invited from interested parties. Submissions shall be addressed to the Board's Executive Secretary at the address below. The closing period for their receipt is July 23, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: June 5, 2018.
Andrew McGilvray,
Executive Secretary.

[FR Doc. 2018-12496 Filed 6-8-18; 8:45 am]

BILLING CODE 3510-DS-P